ENVIRONMENTAL PROTECTION AGENCY

40 CFR Part 51

[AD-FRL-6703-6]

RIN 2060-AH25

Consolidated Emissions Reporting

AGENCY: Environmental Protection Agency (EPA).

ACTION: Proposed rule.

SUMMARY: EPA is proposing this rule to improve and simplify emissions reporting. Many State and local agencies asked EPA to take this action to: consolidate reporting requirements; improve reporting efficiency; provide flexibility for data gathering and reporting; better explain to program managers and the public the need for a consistent inventory program. Consolidated reporting should increase the efficiency of the emission inventory program and provide more consistent and uniform data. EPA is seeking comment on the addition of reporting requirements for hazardous air pollutants (HAPs), and is proposing to add reporting requirements for particulate matter less than or equal to 2.5 micrometers (PM 2.5) and its precursors, and is proposing to reduce the reporting requirements for other criteria pollutants.

DATES: Submit comments on or before July 7, 2000.

ADDRESSES: Send comments (in duplicate, if possible) to: Air and Radiation Docket (6102), US Environmental Protection Agency, Attn: Docket No. A9840, 401 M Street, SW., Washington, DC 20460.

FOR FURTHER INFORMATION CONTACT: William B. Kuykendal, Emissions, Monitoring, and Analysis Division (MD-14), Office of Air Quality Planning and Standards, U.S. Environmental Protection Agency, Research Triangle Park, North Carolina, 27711, Telephone: (919) 541-5372, email: kuykendal.bill@epa.gov.

SUPPLEMENTARY INFORMATION:

I. Authority

Sections 110(a)(2)(F), 110(a)(2)(K), 110(a)(2)(J),112, 182(a)(3)(B), 172(c)(3), 182(a)(3)(A), 187(a)(5), 301(a)

II. Background

Emission inventories are critical for the efforts of State, local, and federal agencies to attain and maintain the National Ambient Air Quality Standards (NAAQS) that EPA has established for criteria pollutants such as ozone, particulate matter, and carbon monoxide. Pursuant to its authority under section 110 of Title I of the Clean Air Act, EPA has long required State Implementation Plans (SIPs) to provide for the submission by States to EPA of emission inventories containing information regarding the emissions of criteria pollutants and their precursors (e.g., volatile organic compounds (VOC)). EPA codified these requirements in 40 CFR part 51, subpart Q in 1979 and amended them in 1987.

The 1990 Amendments to the Clean Air Act (Act) revised many of the provisions of the Clean Air Act related to the attainment of the NAAQS and the protection of visibility in mandatory class I Federal areas (certain national parks and wilderness areas). These revisions establish new periodic emission inventory requirements applicable to certain areas that were designated nonattainment for certain pollutants. For example, section 182(a)(3)(A) required States to submit an emission inventory every three years (3-Year cycle) for ozone nonattainment areas beginning in 1993. Emissions reported must include VOC, nitrogen oxides (NOx), and carbon monoxide (CO) for point, area, mobile (onroad and nonroad), and biogenic sources. Similarly, section 187(a)(5) requires States to submit an inventory every three years for CO nonattainment areas for the same source classes, except biogenic sources. EPA, however, did not codify these statutory requirements in the Code of Federal Regulations (CFR), but simply relied on the statutory language to implement them.

EPA has promulgated the NOx SIP Call (§ 51.122) which calls on the effected States and the District of Columbia to submit SIP revisions providing for NOX reductions in order to reduce the amount of ozone and ozone precursors transported between states. As part of that rule, EPA established reporting requirements to be included in the SIP revisions to be submitted by States in accordance with that action. ¹

¹ EPA recognizes that in its recent decision, the United States Court of Appeals remanded certain issues regarding the NOx SIP call to the Agency. See State of Michigan v. United States Environmental Protection Agency, No. 98-1497, United States Court of Appeals for the District of Columbia Circuit, slip op. issued March 3, 2000. Those issues, however, do not include the reporting requirements and the proposed consolidation of those requirements does not represent any prejudgment of the issues on remand to the Agency. EPA also recognizes that at this time the SIP call submission deadline has been stayed by the court and that the reporting requirements connected with the SIP call would not go into effect until the issues regarding the timing of SIP submissions are resolved.

This proposal consolidates the various reporting requirements that already exist into one place in the CFR, establishes new ones for PM 2.5 and regional haze, establishes new requirements for the statewide reporting of area source and mobile source emissions, includes the reporting requirements for the NOX SIP call and asks for comments on new reporting for air toxics.

In this action, we refer to these types of inventories as the following:

• Point source inventories

• 3-Year cycle inventories

• NOX SIP call inventories

States use data obtained through current annual reporting requirements (point source inventories) to record emissions from large sources and to track progress in reducing emissions from them. States get 3-Year cycle data from stationary sources with lower yearly emission levels and use them with the point source inventories to update their emission inventory every three years. States included in the NOX SIP call will collect emissions data from the sources that are subject to control as a means of compliance. The Rule also takes advantage of data from Emission Statements available to States but not reported to EPA. As appropriate, States may use this data to meet their reporting requirements for point source data. Combining data from these activities gets the most information from sources with the least burden on the industry and less effort by State and local government agencies. By treating this information as a comprehensive emission inventory, States and local agencies may do the following:

• Measure their progress in reducing emissions.

• Have a tool they can use to support future trading programs.

• Set a baseline from which to do future planning.

• Answer the public's request for information.

We intend these inventories to help nonattainment areas develop and meet SIP requirements to reach the NAAQS.

States will need to inventory direct emissions of PM2.5 and its precursors beginning in 2000 for the inventory year 1999. Since PM2.5 is a NAAQS pollutant, we feel it is appropriate to begin collecting this emissions data.² States will also have to estimate direct emissions of primary particulate matter and PM2.5 precursor emissions of condensible organics and ammonia. These PM2.5 related data elements are needed as input to emission models. The Administrator has determined that States should submit statewide point source and 3-Year cycle inventories for PM10, PM2.5, and regional haze, consistent with the data requirements for O3 and CO. Sections 110(a)(2)(F) and 172(c)3 provide ample statutory authority for this proposal as it relates to criteria pollutants. Section 110(a)(2)(F) provides that SIPs are to require “as may be prescribed by the Administrator * * * (ii)periodic reports on the nature and amounts of emissions and emissions-related data from such sources.” Section 172(c)(2)(3) provides that SIPs for nonattainment areas are to “include a comprehensive, accurate, current inventory of actual emissions from all sources of the relevant pollutant or pollutants in such area, including such periodic revisions as the Administrator may determine necessary to assure that the requirements of this part are met.” Additional statutory authority for emissions inventories from 1-hour ozone nonattainment areas is provided by section 182(a)(3)(A) and for emissions inventories from CO nonattainment areas is provided by section 187(a)(5). Section 301(a) provides authority for EPA to promulgate regulations embodying these provisions.

² In American Trucking Assn. v. EPA, No. 97-1440 (“ATA”), the court found that the record “amply justified” the need for fine particle standards, but remanded for further consideration of the levels of those standards. As EPA explained to the ATA Court in supplemental briefing on the remedy, the States should proceed with preparation of PM2.5 emissions inventories because they will be necessary regardless of the levels of the fine particle standards. Accordingly, it is appropriate to proceed with this proposal regarding the collection of emission inventories.

What Is the Purpose of the Consolidated Emissions Reporting Rule (CERR)?

The purpose of this rule is fourfold:

• Simplify emissions reporting,

• Offer options for data exchange

• Unify reporting dates for various categories of inventories, and

• Include reporting fine particulate matter and its precursors.

Previous requirements may have, at times, led to inefficient reporting. This rule provides options for reporting that allow States to match their ongoing activities with federal requirements and provides two options for transmitting data to EPA. This action also consolidates existing and new requirements of emission inventory programs for point sources and 3-Year cycles.

Who Will Have To Comply With the CERR Requirements?

This rule will apply to State and local air pollution control agencies. In the rule, we have adopted “plain English language”. When “you” is used we mean the State or local agency. When “we” is used, EPA is meant.

How Are the CERR's Requirements Different From Existing Requirements?

(a) Additional Pollutants

Your State's inventory will add PM2.5, and PM2.5 precursors to the criteria pollutants.

(b) Geographic Coverage of Inventory

Your State now reports point source emissions statewide and emissions from area and mobile sources by nonattainment area. Your State's new inventory will be statewide by county for all source types, regardless of the attainment status.

(c) Frequency of Reporting

Your State will continue to report emissions from very large point sources (See Table 1) annually. Your State has a choice to report smaller point sources every three years or one-third of the sources each year. Your State will continue to report emissions from nonattainment areas for area and mobile sources every three years. Attainment areas will be required, for the first time, to report area and mobile source emissions.

How Will EPA Use the Data Collected Under This Reporting Requirement?

EPA uses emission inventories to form realistic public policy by the following:

• Modeling analyses,

• Projecting future control strategies,

• Tracking progress to meet requirements of the Clean Air Act,

• Calculating risk, and

• Responding to public inquiries.

Why Does EPA Want my State's Data?

Most of the information EPA needs is readily available from States because of the States' efforts to follow the Clean Air Act and its amendments. Using data States have already estimated or collected is a cheaper, more efficient way for us to get information to analyze. EPA can pull your data into a central repository of emissions data and extract what we need to fulfill our mandates.

How Will Others Use my Data Collected Under This Requirement?

Recent events have shown that some States need emissions data for areas outside their borders. Programs such as the Ozone Transport Assessment Group, the Ozone Transport Commission NOX Baseline study, and the Grand Canyon Visibility Transport Commission demonstrated this need. As we recognize pollution as a regional problem, agencies will need multistate inventories more often to do such things as regional modeling.

We can meet our common needs by creating a central repository of data from State and local agencies, or a group of regional emissions databases. Such repositories offer the advantage of ready access and availability, common procedures for ensuring the quality of data, and an ability to meet the general needs of many potential users.

What Happens if EPA Doesn't Get my Agency's Emissions Data?

If we don't receive your emissions information at the time this rule specifies, we'll use whatever we have to produce emissions data for your agency's geographical area. Congress often mandates our analyses, so we depend on you to provide the data to complete them. If we don't get your data, we must find other ways to compile similar information.

We can estimate your agency's inventory by any of the following:

• National allocation (top down) methods,

• Projecting from previous data, or

• Using our best judgment.

For area and mobile sources, our methods usually represent your emissions reasonably well. For point sources, our estimates are less accurate. We have to estimate activity and plant parameters based on general knowledge rather than using your specific information.

The Act provides for other actions against a State if we do not receive your data. For example, if a State does not provide emissions data for NAAQS pollutants in nonattainment areas, EPA may take actions such as making findings of failure to submit, that are authorized in instances where a State fails to fulfill SIP obligations.

What Additional Reporting Requirements Is EPA Considering?

We are seeking comment on the advisability of requiring new reporting of hazardous air pollutants (HAP) emissions.

In addition to the emission inventory provisions related to NAAQS pollutants, EPA is also considering requiring emission inventory reporting of HAPs. The requirements for HAP reporting would be imposed under authority of section 301(a) which authorizes the Administrator to prescribe such regulations as are necessary to carry out her functions under the Act. Several provisions in the CAA address HAPs and, by the nature of their requirements, imply the need for a HAP emissions inventory. Some examples follow.

Title V of the Act requires the Administrator to perform an oversight role with respect to State issued permits, including permits issued to major sources of HAP emissions. In order to determine whether that program is being appropriately and lawfully administrated by the States with respect to major HAP sources, a HAP emission inventory is necessary. You are developing programs to regulate HAPs and your Title V programs must include permits for all HAP sources emitting major quantities of HAPs (10 tons of one HAP or 25 tons of multiple HAPs per year). Thus, the Administrator believes including HAPs in the point source inventory is appropriate and necessary.

Section 112(n)(1)(A) requires us to report to Congress on the hazards to public health reasonably anticipated to occur as a result of emissions from electric utility steam generating units. Section 112(n)(1)(B) requires us to provide a report to Congress that considers the rate and mass of HAP emissions and the health and environmental effects of these emissions. Section 112(c)(6) requires a list of categories and subcategories of HAP sources subject to standards that account for not less than 90% of the aggregate emission of each pollutant. Although these new requirements do not include specific provisions requiring the compilation of HAP emissions inventories, they do introduce the need for such inventories in order to carry out the mandated statutes.

Section 112(k)(3) of the Act mandates that we develop a strategy to control emissions of HAPs from area sources in urban areas, and that the strategy achieve a reduction in the incidence of cancer attributable to exposure to HAPs emitted by stationary sources of not less than 75%, considering control of emissions from all stationary sources, as well as a substantial reduction in public health risks posed by HAPs from area sources. These mandated risk reductions are to be achieved by taking into account all emission control measures implemented by the Administrator or by the States under this or any other laws. A reliable HAP emission inventory covering all stationary sources of HAPs, including point and area sources, will be important in developing the mandated strategy and demonstrating that the strategy achieves the mandated risk reductions. It would be virtually impossible for us to identify and estimate HAP-specific emission reductions from all the federal and State rules that might result in HAP emission reductions. Therefore, we believe development of the strategy and assessment of progress in achieving the strategic goals requires that we develop and periodically update a HAP emission inventory. As presented in a recent Federal Register notice on the National Air Toxics Program: The Integrated Urban Strategy (64 FR 38706), we have designed an assessment approach that depends upon a reliable and periodically updated HAP emission inventory as a critical element in the assessments that support the development and evaluation of our urban strategy.

In addition to the Act requirements, the Government Performance and Results Act (GPRA) provides new emphasis on the need for HAP emission inventories, assessment of emissions reductions, and resulting reductions in risk. The GPRA, enacted in 1993, requires federal agencies to establish standards measuring their performance and effectiveness. It is the primary legislative mandate that requires agencies to set strategic goals, measure performance, and report on the degree to which goals are met.

For the EPA's air toxics program, the initial goal, by 2010, is to reduce air toxic emissions by 75% from 1993 levels to significantly reduce the risk to Americans of cancer and other serious adverse health effects caused by airborne toxics.

The EPA is working to further refine this goal so that in the future the air toxics program will protect human health and the environment by reducing the risks from air toxic emissions, particularly focusing on populations and areas disproportionately impacted which include, for example, urban areas, children at risk, and populations whose water and food are affected by persistent, bioaccumulating toxics.

Assessing progress in reducing cumulative risk from HAPs will require EPA to move away from a focus on assessing reductions from tons per year emitted, toward a focus on estimating reductions in cancer and non-cancer risks associated with lower emissions. In general, the choice of appropriate risk characterization approaches will be influenced by both the availability of data to support exposure assessments, and the level of detail and resolution needed to support the purpose of the assessment. EPA has identified four basic approaches for various assessments to evaluate progress with the air toxics program in reducing estimated risk. While each of the approaches relies on different types of data to represent exposures, all of these approaches rely on emission inventory information. The four basic approaches are: (1) toxicity weighting of emissions or ambient concentrations; (2) comparison between ambient concentration and risk-based concentrations (RBCs); (3) comparison between estimated exposure and RBCs that may yield quantitative estimates of risk; and (4) quantitative estimates of carcinogenic risk for individuals and populations. Approaches 1 and 2 are considered hazard-based approaches, in that they lack exposure or dispersion modeling, while approaches 3 and 4 are considered risk-based approaches in that they do incorporate exposure assessments and thereby can provide quantitative risk estimates. Approaches 3 and 4 require a detailed emission inventory that includes facility-specific detail (e.g., geographic location, stack heights).

You would be required to report HAP emissions for plants emitting at least 10 tons per year of one HAP or 25 tons per year of two or more HAPs. You would be required to report the same data elements now being submitted for criteria pollutants. You would provide these new data as part of the 3-year cycle inventory.

III. Administrative Requirements

A. Executive Order 12866

Under Executive Order 12866 (58 FR 51735, October 4, 1993), we must determine whether the regulatory action is “not significant” and therefore not subject to review by the Office of Management and Budget (OMB) and to the Executive Order's requirements. We've determined this action is “significant” and therefore does require OMB review, based on the Order's definition of a “significant” regulatory action as one that is likely to result in a rule that may do any of the following:

1. Have an annual effect on the economy of $100 million or more or materially harm the economy, a sector of the economy, productivity, competition, jobs, the environment, public health or safety, or State and local governments or communities. The ICR (EPA ICR No. 0916.09) analysis shows that the costs to implement the Rule are less than $100 million. The analysis from the ICR shows total costs including proposed new requirements and start up are about $2 million.

2. Create a serious inconsistency or otherwise interfere with an action taken or planned by another Agency. The rule will increase data consistency, thus assisting other Agencies.

3. Materially alter the budgetary effect of entitlements, grants, user fees, or loan programs or the rights and obligations of those who receive them. Grant funds have been identified to support these activities.

4. Raise novel legal or policy issues arising out of legal mandates, the President's priorities, or the principles in the Executive Order. This rule will establish requirements for collecting and reporting new data to EPA and for this reason is deemed to be “significant”.

B. Paperwork Reduction Act

The new information collection requirements in this proposed rule have been submitted for approval to the Office of Management and Budget (OMB) under the Paperwork Reduction Act, 44 U.S.C. 3501 et seq. Earlier the Office of Management and Budget approved the current information collection requirements in part 51 under the Paperwork Reduction Act and has assigned OMB control number 2060-0088 (EPA ICR No. 916.07). The Information Collection Request (ICR) document for the new information collection requirements has been prepared by EPA (ICR No. 0916.09) and a copy may be obtained from Sandy Farmer by mail at Collection Strategies Division; U.S. Environmental Protection Agency (2822); 1200 Pennsylvania Ave., NW, Washington, DC 20460, by email at farmer.sandy@epa.gov, or by calling (202) 260-2740. A copy may also be downloaded from the internet at http://www.epa.gov/icr.

Today's action revises part 51 to consolidate old reporting requirements, adds new requirements for PM2.5 and its precursors, adds new Statewide reporting requirements for area and mobile sources and asks for comments on newly recognized reporting needs for HAPs. Data from proposed new reporting will be used to:

• Support modeling analyses,

• Project future control strategies,

• Track progress to meet requirements of the Clean Air Act,

• Calculate risk, and

• Respond to public inquiries.

If finalized, this proposed rule would contain mandatory information reporting requirements (see 40 CFR 51.001); EPA considers all information reported under this proposed rule to be in the public domain and therefore cannot be treated as confidential.

The information in the following table was summarized from ICR 0916.09 and presents the reporting burden estimates.

Burden Estimate Summary
Reporting requirement | Number of respondents | Hours per respondent | Total hours per year | Total labor costs per year | Total annual capital costs | Total annual O&M costs
STATE RESPONDENTS
Current | 55 | 121 | 6,636 | $205,420 | $23,100 | $6,600
Statewide Area and Mobile Source Reporting | * | 717 | 20,971 | 553,897 |  |
PM2.5 Reporting | 55 | 42 | 2,310 | 61,006 |  |
HAP Reporting | * | 700 | 14,350 | 378,976 |  |
Subtotal for States |  | 1,580 | 44,267 | 1,199,299 |  |
INDUSTRY RESPONDENTS
HAP Reporting | 7,500 | 3 | 22,500 | 844,000 |  |
Total | 7,555 |  | 66,767 | 2,043,299 | 23,100 | 6,600
* Varies.

The results in the table are broken down into State respondents and industry respondents. Within these groups, the reporting burden is further broken down into “current requirements”,“Statewide area and mobile source reporting requirements”, “PM2.5 reporting requirements”, and “HAP reporting requirements.” This has been done to highlight the major areas changed by the CERR and to show the impact of these changes on the estimated burden.

To simplify the discussion, only the total hours per year will be discussed, however, the other burden components are related and the discussion would be similar. The burden hours estimated for all of the emission inventory reporting requirements in place prior to this proposed rule are labeled “current” and total 6,636 hours per year. Because of the streamlining and flexibility offered by the CERR, these “current” requirements are reduced from the original burden estimate of 11,448 hours per year; a savings of 4,812 hours per year. The new reporting requirements for Statewide area and mobile source reporting adds 20,971 hours per year and the PM2.5 reporting requirements adds 2,310 hours per year. All of these burden changes are attributable to the State agency respondents.

Because the Environmental Protection Agency is requesting comment on the advisability of requiring HAP reporting, these costs are shown separately in the table. Note that there is a burden increment for both State and industry respondents. For the States, the new HAP reporting burden would add 14,350 hours per year. For industry, 22,500 hours per year would be added.

The total burden impact of the CERR, including the HAP reporting requirements, is estimated to be 66,767 hours per year for State and industry respondents. For the States alone, this total is 44,267 hours per year. It should be noted that, of this State total of 44,267 hours per year, approximately 20,000 hours per year are associated with start-up costs that will no longer be incurred after the first three years. Thus, after three years, the estimated burden becomes about 24,000 hours per year for the States and about 47,000 hours per year for the States and industry.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to a collection of information unless it displays a currently valid OMB control number. The OMB control numbers for EPA's regulations are listed in 40 CFR Part 9 and 48 CFR Chapter 15.

Comments are requested on the Agency's need for this information, the accuracy of the provided burden estimates, and any suggested methods for minimizing respondent burden, including through the use of automated collection techniques. Send comments on the ICR to the Director, Collection Strategies Division; U.S. Environmental Protection Agency (2822); 1200 Pennsylvania Ave., NW, Washington, DC 20460; and to the Office of Information and Regulatory Affairs, Office of Management and Budget, 725 17th St., N.W., Washington, DC 20503, marked “Attention: Desk Officer for EPA.” Include the ICR number in any correspondence. Since OMB is required to make a decision concerning the ICR between 30 and 60 days after May 23, 2000 a comment to OMB is best assured of having its full effect if OMB receives it by June 22, 2000. The final rule will respond to any OMB or public comments on the information collection requirements contained in this proposal.

C. Impact on Small Entities

Under the Regulatory Flexibility Act we don't need to analyze this proposed regulation's flexibility because it doesn't affect small entities whose jurisdictions cover fewer than 50,000 people. Under 5 U.S.C. 605(b), I certify that this action won't significantly affect the economic well-being of a substantial number of small entities.

D. Executive Order 13045: Children's Health Protection

Executive Order 13045: “Protection of Children from Environmental Health Risks and Safety Risks” (62 FR 19885, April 23, 1997) applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

EPA interprets Executive Order 13045 as applying only to those regulatory actions that are based on health or safety risks, such that the analysis required under section 5-501 of the Order has the potential to influence the regulation. This rule is not subject to Executive Order 13045 because it is based on technology performance and not on health or safety risks.

E. The National Technology Transfer and Advancement Act

Section 12(d) of the National Technology Transfer and Advancement Act of 1995 (NTTAA), Public Law No. 104-113, section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

This proposed rule making does not involve technical standards. Therefore, EPA is not considering the use of any voluntary consensus standards.

F. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that this rule does not contain a Federal mandate that may result in expenditures of $100 million or more for State, local, and tribal governments, in the aggregate, or the private sector in any one year. The additional work required by this rule takes advantage of information already in the possession of reporting groups. Using existing data leverages past work and reduces the burden of this rule. This conclusion is supported by the analysis done in support of EPA ICR No. 0916.09, OMB control number 2060-0088, which shows that total costs will be about $2 million. Thus, today's rule is not subject to the requirements of sections 202 and 205 of the UMRA.

G. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under section 6 of Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law, unless the Agency consults with State and local officials early in the process of developing the proposed regulation.

If EPA complies by consulting, Executive Order 13132 requires EPA to provide to the Office of Management and Budget (OMB), in a separately identified section of the preamble to the rule, a federalism summary impact statement (FSIS). The FSIS must include a description of the extent of EPA's prior consultation with State and local officials, a summary of the nature of their concerns and the agency's position supporting the need to issue the regulation, and a statement of the extent to which the concerns of State and local officials have been met. Also, when EPA transmits a draft final rule with federalism implications to OMB for review pursuant to Executive Order 12866, EPA must include a certification from the agency's Federalism Official stating that EPA has met the requirements of Executive Order 13132 in a meaningful and timely manner.

EPA has concluded that this proposed rule will have federalism implications. This is based on the new requirements proposed by this rule that States will now have to report their emissions Statewide and will have to report PM2.5 and PM2.5 precursor emissions. Moreover, it also may impose substantial direct compliance costs on State or local governments, and the Federal government will not provide the funds necessary to pay those costs. Accordingly, EPA provides the following FSIS as required by section 6(b) of Executive Order 13132.

Federalism Summary Impact Statement (FSIS)

EPA convened a Work Group that included representatives from three States (CA, NJ, TX) in addition to EPA representatives. This Work Group met via conference calls over a period of about a year and a half beginning in early 1997. In addition, EPA maintained an active dialog with a larger number of States through the State and Territorial Air Pollution Program Administrators (STAPPA) and the Association of Local Air Pollution Control Officials (ALAPCO). The STAPPA/ALAPCO coordination involved two forums: 1. The Standing Air Emissions Work Group (SAEWG) and 2. The STAPPA/ALAPCO Emissions and Modeling committee. The coordination with the States through the STAPPA/ALAPCO process will continue throughout this rule making process. There is considerable support for this rule by the States. The States like having all of the emission inventory reporting requirements updated and in one consolidated rule. However, two principal concerns were raised by the States: 1. Does EPA have authority to collect HAP data?, and 2. Will the rule limit the States' ability to collect emission inventory data beyond the requirements of the rule? EPA has addressed both of these concerns. The first concern has been addressed by removing the HAP reporting requirements from the rule. Instead, these requirements are discussed in the preamble and EPA is requesting comments. The second concern was addressed by the nature of the rule. The rule only specifies information that should be reported to EPA. It does not limit the States from collecting whatever data they deem necessary for their emission inventory programs.

EPA consulted with State and local officials early in the process of developing the proposed regulation to permit them to have meaningful and timely input into its development. For the reasons discussed under the FSIS, EPA believes that it has complied with the requirements of Executive Order 13132.

H. Executive Order 13084: Consultation and Coordination With Indian Tribal Governments

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments to provide meaningful and timely input in the development of regulatory policies on matters that significantly or uniquely affect their communities.

Today's rule does not significantly or uniquely affect the communities of Indian tribal governments. Accordingly, the requirements of section 3(b) of Executive Order 13084 do not apply to this rule.

List of Subjects in 40 CFR Part 51

Environmental protection, Administrative practice and procedure, Air pollution control, Carbon monoxide, Intergovernmental relations, Nitrogen oxides, Ozone, Particulate matter, Reporting and recordkeeping requirements.

Dated: May 12, 2000.
Carol M. Browner,
Administrator.

For the reasons stated in the preamble, title 40, chapter I, of the Code of Federal Regulations is proposed to be amended as follows:

PART 51—[AMENDED]

1. The authority citation for part 51 continues to read as follows:

Authority: 42 U.S.C. 7410, 7414, 7421, 7470-7479, 7491, 7492, 7601, and 7602.

2. Part 51 is amended by adding subpart A to read as follows:

Subpart A—Emission Inventory Reporting Requirements
Sec.
51.1 For what sources must States do emissions reporting?
General Information for Inventory Preparers
51.5 Who is responsible for actions described in this subpart?
51.10 What tools are available to help prepare and report emissions data?
51.15 How does my State reduce the effort for reporting?
Specific Reporting Requirements
51.20 What data does my State need to report to EPA?
51.25 What are the emission thresholds that separate point and area sources?
51.30 What geographic area must my State's inventory cover?
51.35 When does my State report the data to EPA?
51.40 In what form should my State report the data to EPA?
51.45 Where should my State report the data?
Appendix A to Subpart A of Part 51—Tables and Glossary
Appendix B [Reserved]

Subpart A—Emission Inventory Reporting Requirements

§ 51.1 For what sources must States do emissions reporting?

Point sources for which States must report emissions annually under § 51.321 are defined as follows:

(a) For PM10, PM2.5, ammonia, sulfur oxides, VOC, and nitrogen oxides, any plant that actually emits at least 90.7 metric tons (100 tons) per year of any pollutant.

(b) For carbon monoxide, any plant that actually emits at least 907 metric tons (1000 tons) per year.

(c) For lead and lead compounds measured as elemental lead, any plant that actually emits at least 4.5 metric tons (5 tons) per year.

General Information for Inventory Preparers

§ 51.5 Who is responsible for actions described in this subpart?

State and local agencies whose geographic coverage include any point, area, mobile, or biogenic sources must inventory these sources and report this information to EPA.

§ 51.10 What tools are available to help prepare and report emissions data?

(a) We urge your State to use estimation procedures described in documents from the Emission Inventory Improvement Program (EIIP). These procedures are standardized and ranked according to relative uncertainty for each emission estimating technique. Using this guidance will enable others to use your State's data and be able to evaluate its quality and consistency with other data.

§ 51.15 How does my State reduce the effort for reporting?

(a) Compiling smaller point source (Type B) and 3-Year cycle inventories (see Appendix A, Table 1 of this subpart) means much more effort every three years, but your State may ease this workload spike by reporting one-third of your Type B point and 3-Year cycle sources each year. For these sources, your State will therefore have data from three successive years at any given time, rather than from the single year in which it is compiled. If your State needs to inventory the entire category of Type B point and 3-Year cycle sources in a single year, your State should report this data instead of a third of the estimates each year. If your State is a NOX SIP Call state as defined in § 51.122, your State can't use these optional reporting frequencies for NOX.

(b) If your State needs a base year emission inventory for a selected pollutant, your State must compile an inventory of all affected source categories for the specified year.

(c) If your State chooses the method of reporting one-third of your Type B sources and 3-Year cycle sources each year, your State must compile each year of the three year period identically. For example, if a process hasn't changed for a source category or individual plant, your State must use the same emission factors to calculate emissions for each year of the three year period. If your State has revised emission factors during the three years for a process that hasn't changed, resubmit previous year's data using the revised factor. If your State uses models to estimate emissions during any year of the three year period, make them identical for all three years.

Specific Reporting Requirements

§ 51.20 What data does my State need to report to EPA?

(a) Pollutants. Report emissions of the following:

(1) Sulfur oxides.

(2) VOC.

(3) Nitrogen oxides.

(4) Carbon monoxide.

(5) Lead and lead compounds.

(6) PM10.

(7) PM2.5.

(8) PM2.5 precursors including ammonia.

(b) Supporting information. Report the data elements in Table 2a through 2d of appendix A to this subpart. Depending on the format you choose to report your State data, additional information not listed in Tables 2a through 2d will be required. Specific instructions for your State system format should be consulted. Any you don't report we'll have to generate with our own techniques. We may ask you for other data to meet special requirements.

(c) Confidential data. We don't consider the data in Tables 2a through 2d of appendix A to this subpart confidential, but some States limit release of this type of data. Any data that you submit to EPA under this rule will be considered in the public domain and cannot be treated as confidential. If Federal and State requirements are inconsistent, consult your EPA Regional Office for a final reconciliation.

§ 51.25 What are the emission thresholds that separate point and area sources?

(a)(1) Use the following actual emissions thresholds in attainment areas for point source reporting:

(i) Sources emitting at least 100 tpy for SOX, VOC, NOX, PM10, PM2.5.

(ii) Sources emitting at least 1000 tpy for CO.

(iii) Sources emitting at least 5 tpy for lead and lead compounds.

(2) See Table 1 of appendix A to this subpart for reporting thresholds on point sources in nonattainment areas.

(b) Your State has the option to inventory and report any stationary sources below these thresholds as point or area sources. If you have lower emission thresholds for point sources in your State, you should use them in reporting your emissions to EPA. See Table 1 of appendix A to this subpart for thresholds to report 3-Year cycle data and Tables 2a through 2d of appendix A to this subpart for data elements to report.

(c) In moderate PM10 nonattainment areas your State should inventory sources emitting at least 100 tpy (actual) as point sources. In serious PM10 nonattainment areas, this requirement applies to sources emitting at least 70 tpy (actual). Inventory PM2.5 sources emitting at least 100 tpy (actual) as point sources. Inventory ammonia (a precursor to PM2.5) as a point or area source.

§ 51.30 What geographic area must my State's inventory cover?

Because of the regional nature of these pollutants, your State's inventory must be statewide, regardless of an area's attainment status.

§ 51.35 When does my State report the data to EPA?

Your State must report data for the point source inventory and the 3-Year cycle inventory 17 months (by June 1) after the end of the calendar emission year. For example, your calender year 1999 inventory should be reported to EPA by June 1, 2001.

(a) Point source. As seen in Table 1 of appendix A to this subpart, your State should divide your point source inventory into two subsets—Type A source inventory and Type B source inventory—with different reporting frequencies. Report actual annual emissions from Type A point sources each calendar year. Review stack data (height, diameter, flow rate, temperature, velocity, and stack number) every three years and send in changes shown in Table 2a of appendix A to this subpart.

(b) 3-Year cycle. (1) Your State should send EPA its annual and daily estimates of actual emissions every three years for Type B point sources and area and mobile sources. For Type B point source inventories, include facilities not reported under the Type A source requirement. Area data includes sources below the thresholds for Type B point sources. Your State may report emissions from one-third of your State's Type B point sources, area, and mobile sources each year or from all sources every three years.

(2) Your State and your EPA Regional Office may tailor the reporting by selecting sources that most affect your agency.

(3) We encourage your State to integrate your State's own reporting requirements with EPA's.

(c) NOX SIP call. For NOX SIP call reporting, States must submit data for a required year no later than 12 months after the end of the calendar year for which the data are collected.

(1) For point, area and mobile sources within your State that your State is controlling to meet the NOX reductions in § 51.121, submit estimates of NOX annually for the NOX ozone season as shown in Tables 2a, 2b and 2c of appendix A to this subpart.

(2) For all NOX sources including point, area and mobile sources within your State, whether controlled or uncontrolled, submit estimates of NOX emissions every three years for the NOX ozone season as shown in Tables 2a, 2b and 2c of appendix A to this subpart.

(d) Other. Your State must establish an initial baseline for biogenic emissions. Your State need not submit more biogenic data unless land use characteristics or the methods for estimating emissions change. If either of these variables change, your State must report new biogenic emissions during the reporting period in the following year as shown in Table 2d of appendix A of this subpart.

§ 51.40 In what form should my State report the data to EPA?

(a) For better access by everyone, report emissions in your State in an electronic format using one of two options. You can find specific instructions for each option at the following Internet address: http://www.epa.gov/ttn/chief/ei/eisubmit.html These two options are as follows:

(1) Submit your State's data in the National Emissions Trends (NET) input format; or

(2) Submit your State's data in the Electronic Data Interchange (EDI) format.

(b) Some metadata describing your submission are not listed in Tables 2a through 2d of appendix A of this subpart are also required. Because electronic reporting technology continually changes, contact your EPA Regional Office for acceptable formats. You should consult specific instructions for your State system format to determine additional requirements not listed in Tables 2a through 2d.

§ 51.45 Where should my State report the data?

(a) If your State uses either the NET Input format or the EDI format, your State submits or reports data by either providing it to EPA directly or notifying EPA that it is available in the specified format and at a specific electronic location (FTP site).

(b) For the latest information on data reporting procedures, call our Info Chief help desk at (919)541-1000 or email to info.chief@epa.gov.

Appendix A to Subpart A of Part 51—Tables and Glossary

Table 1.—Summary of Requirements for Reporting Emission Inventories
Provision | Point source inventory: Type A sources ¹ | Point source inventory: Type B sources ¹ | NOX SIP call inventory | 3-Year inventory
CAA citation | Section 110(a)(2)(F) | Section 110(a)(2)(F), § 112 | Section 110(a)(2) | Section 172(c)(3), Section 182(a)(3)(A), and Section 187(a)(5), § 112
1. Frequency of reporting | Annual | Every three years | Annual | Every three years
2. Estimating period | Annual | Annual and Daily ³ | Five month season | Annual and Daily ³
3. Areas to which provision applies | Entire U.S. (Statewide) | Entire U.S. (Statewide) | NOX SIP Call areas (Statewide) | Entire U.S. (Statewide)
4. Pollutants and source size thresholds | Pollutant | Pollutant | Pollutant | Pollutant Ozone NA areas: ⁴
| tpy ² | tpy ² | tpy ² | tpy ²
| SOX ≥ 2,500 NOX ≥ 2,500 VOC ≥ 250 PM10 ≥ 250 PM2.5 ≥ 250 CO ≥ 2,500 NH3 ≥ 250 | SOX ≥ 100 NOX ≥ 100, VOC ≥ 100 PM10 ≥ 100 PM2.5 ≥ 100 CO ≥ 1,000 Pb ≥ 5 NH3 ≥ 100 | NOX ≥ 100 Lesser thresholds to be defined by state | VOC ≥ 10, NOX ≥ 100, CO ≥ 100. CO NA areas: ⁴ CO ≥ 100.
|  |  | All sources not inventoried as point sources shall be inventoried as area or mobile sources and reported only if they are to be controlled to meet emission budget
|  |  |  | PM-10 NA areas: ⁴ PM10 ≥ 70 (serious), PM10 ≥ 100 (moderate). PM2.5 NA areas: ⁴ PM2.5 ≥ 100. Ammonia may be inventoried as a point or area source. Inventory includes: • Point sources ≥ specified tpy. • Area sources < specified tpy. • Onroad mobile sources. • Nonroad mobile sources. • Biogenic sources.
¹ Previously, the Type A sources and the Type B sources together constituted the annual inventory (40 CFR Part 51.321-323); all such sources were required to report annually.
² tpy = tons per year.
³ Ozone daily emissions = summer work weekday; CO daily emissions = winter work weekday; PM daily emissions = to be defined in consultation with Regional office.
⁴ Thresholds apply to nonattainment areas only; remainder of State uses Type B Source thresholds to distinguish between point and area sources.

Table 2a.—Data Elements That States Must Report for Point Sources
Data elements | Annual: Entire U.S. | Annual: NOX SIP call | Every 3 years: Entire U.S. | Every 3 years: NAA | Every 3 years: NOX SIP call
Emission levels (Tons per year) | VOC≥250 NOX≥2500 SOX≥2500 PM10≥250 PM2.5≥250 CO≥2500 NH3≥ 250 | NOX≥100 Lesser thresholds to be defined by state | VOC≥100 NOX≥100 SOX≥100 PM10≥100 PM2.5≥100 CO≥1000 Pb≥5 NH3≥100 | ¹ VOC≥10 ¹ NOX≥100 ¹ PM10≥70 ¹ CO ≥100 | NOX≥100
1. Inventory year | ✔ | ✔ | ✔ | ✔ | ✔
2. Inventory start date | ✔ |  | ✔ | ✔ | ✔
3. Inventory end date | ✔ |  | ✔ | ✔ | ✔
4. Inventory type | ✔ |  | ✔ | ✔ | ✔
5. State FIPS code | ✔ | ✔ | ✔ | ✔ | ✔
6. County FIPS code | ✔ | ✔ | ✔ | ✔ | ✔
7. Federal ID code (plant) | ✔ | ✔ | ✔ | ✔ | ✔
8. Federal ID code (point) | ✔ | ✔ | ✔ | ✔ | ✔
9. Federal ID code (process) | ✔ | ✔ | ✔ | ✔ | ✔
10. Site name | ✔ | ✔ | ✔ | ✔ | ✔
11. Physical address | ✔ | ✔ | ✔ | ✔ | ✔
12. SCC | ✔ | ✔ | ✔ | ✔ | ✔
13. Heat content (fuel) (annual) | ✔ | ✔ | ✔ | ✔ | ✔
14. Ash content (fuel) (annual) | ✔ |  | ✔ | ✔ |
15. Sulfur content (fuel) (annual) | ✔ |  | ✔ | ✔ |
16. Heat content (fuel) (seasonal) |  | ✔ |  |  | ✔
17. Source of fuel heat content |  | ✔ |  |  | ✔
18. Pollutant code | ✔ | ✔ | ✔ | ✔ | ✔
19. Activity/throughput (annual) | ✔ | ✔ | ✔ | ✔ | ✔
20. ² Activity/throughput (daily) | ✔ | ✔ | ✔ | ✔ | ✔
21. Activity/throughput (NOX ozone season) |  | ✔ |  |  | ✔
22. Source of activity/throughput (NOX ozone season) |  | ✔ |  |  | ✔
23. Work weekday emissions | ✔ | ✔ | ✔ | ✔ | ✔
24. Annual emissions | ✔ |  | ✔ | ✔ |
25. NOX Ozone season emissions |  | ✔ |  |  | ✔
26. Area classification |  | ✔ |  |  | ✔
27. Emission factor | ✔ | ✔ | ✔ | ✔ | ✔
28. Source of emission factor |  | ✔ |  |  | ✔
29. Winter throughput (%) | ✔ |  | ✔ | ✔ |
30. Spring throughput (%) | ✔ | ✔ | ✔ | ✔ | ✔
31. Summer throughput (%) | ✔ | ✔ | ✔ | ✔ | ✔
32. Fall throughput (%) | ✔ | ✔ | ✔ | ✔ | ✔
33. Hr/day in operation | ✔ | ✔ | ✔ | ✔ | ✔
34. Start time (hour) | ✔ | ✔ | ✔ | ✔ | ✔
35. Day/wk in operation | ✔ | ✔ | ✔ | ✔ | ✔
36. Wk/yr in operation | ✔ | ✔ | ✔ | ✔ | ✔
37. Federal ID code (stack number) |  | ✔ | ✔ | ✔ | ✔
38. X stack coordinate (latitude) |  |  | ✔ | ✔ | ✔
39. Y stack coordinate (longitude) |  |  | ✔ | ✔ | ✔
40. Stack height |  |  |  | ✔ | ✔
41. Stack diameter |  |  |  | ✔ | ✔
42. Exit gas temperature |  |  |  | ✔ | ✔
43. Exit gas velocity |  |  |  | ✔ | ✔
44. Exit gas flow rate |  |  |  | ✔ | ✔
45. SIC/NAICS |  |  | ✔ | ✔ | ✔
46. Design capacity |  |  | ✔ | ✔ | ✔
47. Maximum nameplate capacity |  |  | ✔ | ✔ | ✔
48. Primary control eff (%) |  |  | ✔ | ✔ | ✔
49. Secondary ctl eff (%) |  |  | ✔ | ✔ | ✔
50. Control device type |  |  | ✔ | ✔ | ✔
51. Rule effectiveness (%) |  |  | ✔ | ✔ |
¹ Both daily and annual emission estimates required.
² May be derived from annual or seasonal throughput.

Table 2b.—Data Elements that States Must Report for Area and Nonroad Sources
Data elements | Annual: Entire U.S. | Annual: ¹ NOX SIP Call | Every 3 years: Entire U.S. | Every 3 years: NAA | Every 3 years: NOX SIP call
Emissions levels (Tons per year) |  |  | ²VOC <10 ² NOX <100 ² PM10 <100 ² PM2.5 <100 ² CO <100 ² NH3 <100 |  | NOX <100
1. Inventory year |  | ✔ | ✔ |  | ✔
2. Inventory start date |  | ✔ | ✔ |  | ✔
3. Inventory end date |  | ✔ | ✔ |  | ✔
4. Inventory type |  | ✔ | ✔ |  | ✔
5. State FIPS code |  | ✔ | ✔ |  | ✔
6. County FIPS code |  | ✔ | ✔ |  | ✔
7. SCC |  | ✔ | ✔ |  | ✔
8. Emission factor |  | ✔ | ✔ |  | ✔
9. Source of emission factor |  | ✔ |  |  | ✔
10. Activity/throughput level (annual) |  | ✔ | ✔ |  | ✔
11. Activity/throughput (NOX ozone season) |  | ✔ |  |  | ✔
12. Source of activity/throughput (NOX ozone season) |  | ✔ |  |  | ✔
13. Total capture/control efficiency (%) |  | ✔ | ✔ |  | ✔
14. Rule effectiveness (%) |  | ✔ | ✔ |  | ✔
15. Rule penetration (%) |  | ✔ | ✔ |  | ✔
16. Pollutant code |  | ✔ | ✔ |  | ✔
17. Summer/winter work weekday emissions |  | ✔ | ✔ |  | ✔
18. Annual emissions |  | ✔ | ✔ |  | ✔
19. NOX ozone season emissions |  | ✔ |  |  | ✔
20. Source of emissions data |  | ✔ |  |  | ✔
21. Winter throughput (%) |  | ✔ | ✔ |  | ✔
22. Spring throughput (%) |  | ✔ | ✔ |  | ✔
23. Summer throughput (%) |  | ✔ | ✔ |  | ✔
24. Fall throughput (%) |  | ✔ | ✔ |  | ✔
25. Hr/day in operations |  | ✔ | ✔ |  | ✔
26. Day/wk in operations |  | ✔ | ✔ |  | ✔
27. Wk/yr in operations |  | ✔ | ✔ |  | ✔
¹ You are only required to report sources within your State if they are CONTROLLED to meet NOX reductions under § 51.121.
² Both daily and annual emission estimates required.

Table 2c.—Data Elements That States Must Report for Onroad Mobile Sources
Data elements | Annual: Entire U.S. | Annual: ¹ NOX SIP call | Every 3 years: Entire U.S. | Every 3 years: NAA | Every 3 years: NOX SIP call
1. Inventory year |  | ✔ | ✔ |  | ✔
2. Inventory start date |  | ✔ | ✔ |  | ✔
3. Inventory end date |  | ✔ | ✔ |  | ✔
4. Inventory type |  | ✔ | ✔ |  | ✔
5. State FIPS code |  | ✔ | ✔ |  | ✔
6. County FIPS code |  | ✔ | ✔ |  | ✔
7. SCC |  | ✔ | ✔ |  | ✔
8. ² Emission factor |  | ✔ | ✔ |  | ✔
9. Activity (VMT by Roadway Class) |  | ✔ | ✔ |  | ✔
10. Source of activity data |  | ✔ |  |  | ✔
11. Pollutant code |  | ✔ | ✔ |  | ✔
12. Summer/winter work weekday emissions |  | ✔ | ✔ |  | ✔
13. Annual emissions |  |  | ✔ |  |
14. NOX Ozone season emissions |  | ✔ |  |  | ✔
15. Source of emissions data |  | ✔ |  |  | ✔
¹ You are only required to report Onroad Mobile sources within your State if they are CONTROLLED to meet NOX reductions under § 51.121.
² Both daily and annual emission estimates required.

Table 2d.—Data Elements That States Must Report for Biogenic Sources
Data elements | Annual: Entire U.S. | Every 3 years: Entire U.S. | Every 3 years: NAA
1. Inventory year |  | ✔ |
2. Inventory start date |  | ✔ |
3. Inventory end date |  | ✔ |
4. Inventory type |  | ✔ |
5. State FIPS code |  | ✔ |
6. County FIPS code |  | ✔ |
7. SCC |  | ✔ |
8. Pollutant code |  | ✔ |
9. Summer/winter work weekday emissions |  | ✔ |
10. Annual emissions |  | ✔ |

Glossary to Appendix A

Activity rate/throughput (annual)—A measurable factor or parameter that relates directly or indirectly to the emissions of an air pollution source. Depending on the type of source category, activity information may refer to the amount of fuel combusted, raw material processed, product manufactured, or material handled or processed. It may also refer to population, employment, number of units, or miles traveled. Activity information is typically the value that is multiplied against an emission factor to generate an emissions estimate.

Activity rate/throughput (daily)—The beginning and ending dates and times that define the emissions period used to estimate the daily activity rate/throughput.

Area classification—The Clean Air Act classification of the nonattainment area containing the reporting source (transitional, marginal, moderate, serious, severe, extreme).

Area sources—Area sources collectively represent individual sources that have not been inventoried as specific point, mobile, or biogenic sources. These individual sources treated collectively as area sources are typically too small, numerous, or difficult to inventory using the methods for the other classes of sources.

Annual emissions—Actual emissions for a plant, point, or process—measured or calculated that represent a calendar year.

Ash content—Inert residual portion of a fuel.

Biogenic sources—Biogenic emissions are all pollutants emitted from non-anthropogenic sources. Example sources include trees and vegetation, oil and gas seeps, and microbial activity.

Control device type—The name of the type of control device (e.g., wet scrubber, flaring, or process change).

County/parish/reservation (FIPS)—Federal Information Placement System (FIPS). FIPS is the system of unique numeric codes the government developed to identify States, counties, towns, and townships for the entire United States, Puerto Rico, and Guam.

Day/wk in operations—Days per week that the emitting process operates.

Design capacity—A measure of the size of a point source, based on the reported maximum continuous capacity of the unit.

Emission factor—Ratio relating emissions of a specific pollutant to an activity or material throughput level.

Exit gas flow rate—Numeric value of stack gas's flow rate.

Exit gas temperature—Numeric value of an exit gas stream's temperature.

Exit gas velocity—Numeric value of an exit gas stream's velocity.

Fall throughput (%)—Part of the throughput for the three Fall months (September, October, November). This expresses part of the annual activity information based on four seasons—typically spring, summer, fall, and winter. It can be a percentage of the annual activity (e.g., production in summer is 40% of the year's production) or units of the activity (e.g., out of 600 units produced, spring =150 units, summer = 250 units, fall = 150 units, and winter = 50 units).

Federal ID code (plant)—Unique code for a plant or facility, containing one or more pollutant-emitting sources.

Federal ID code (point)—Unique code for the point of generation of emissions, typically a physical piece of equipment.

Federal ID code (process)—Unique code for the process generating the emissions, typically a description of a process.

Federal ID code (stack number)—Unique code for the point where emissions from one or more processes release into the atmosphere.

Heat content—The amount of thermal heat energy in a solid, liquid, or gaseous fuel. Fuel heat content is typically expressed in units of Btu/lb of fuel, Btu/gal of fuel, joules/kg of fuel, etc.

Hr/day in operations—Hours per day that the emitting process operates.

Inventory end date—Last day of the inventory period.

Inventory start date—First day of the inventory period.

Inventory type—Type of inventory represented by data (i.e., point, 3-Year cycle, daily).

Inventory year—The calendar year for which you calculated emissions estimates.

Maximum nameplate capacity—A measure of a unit's size that the manufacturer puts on the unit's nameplate.

Metadata—Data that describes how and when and by whom a particular set of data was collected, and how the data is formatted. Metadata are essential for understanding information stored in data bases.

Mobile source—A motor vehicle, nonroad engine or nonroad vehicle.

• A “motor vehicle” is any self-propelled vehicle used to carry people or property on a street or highway.

• A “nonroad engine” is an internal combustion engine (including fuel system) that is not used in a motor vehicle or vehicle only used for competition, or that is not affected by sections 111 or 202 of the CAA.

• A “nonroad vehicle” is a vehicle that is run by a nonroad engine and that is not a motor vehicle or a vehicle only used for competition.

NOX ozone season emissions—Actual ozone season emissions for a plant, point, or process, either measured or calculated. Ozone season emissions for NOX SIP Call are the emissions between May 1 and September 30. (Note that 40 CFR Part 58 contains a different definition for ozone season monitoring.)

Physical address—Street address of a facility.

Point source—Point sources are large, stationary (non-mobile), identifiable sources of emissions that release pollutants into the atmosphere. State or local air regulatory agencies define a plant as a point source whenever it annually emits more than a specified amount of a given pollutant; these “cutoff” levels definitions vary among State and local agencies. A stationary source which emits less than a “cutoff” is an area source.

Pollutant code—A unique code for each reported pollutant assigned in the EIIP Data Model. The model uses character names for criteria pollutants and Chemical Abstracts Service (CAS) numbers for all other pollutants. You may be using SAROAD codes for pollutants, but you should be able to map them to the pollutant codes in the EIIP Data Model.

Rule effectiveness (RE)—How well a regulatory program achieves all possible emission reductions. This rating reflects the assumption that controls typically aren't 100 percent effective because of equipment downtime, upsets, decreases in control efficiencies, and other deficiencies in emission estimates. RE adjusts the control efficiency.

Rule penetration—The percentage of an area source category covered by an applicable regulation.

SCC—Source category code. A process-level code that describes the equipment or operation which is emitting pollutants.

Seasonal activity rate/throughput—A measurable factor or parameter that relates directly or indirectly to the pollutant season emissions of an air pollution source. Depending on the type of source category, activity information may refer to the amount of fuel combusted, raw material processed, product manufactured, or material handled or processed. It may also refer to population, employment, number of units, or miles traveled. Activity information is typically the value that is multiplied against an emission factor to generate an emissions estimate.

Seasonal fuel heat content—The amount of thermal heat energy in a solid, liquid, or gaseous fuel used during the pollutant season. Fuel heat content is typically expressed in units of Btu/lb of fuel, Btu/gal of fuel, joules/kg of fuel, etc.

Secondary control eff (%)—The emission reduction efficiency of a secondary control device. Control efficiency is usually expressed as a percentage or in tenths.

Source of activity rate/throughput data—Source of data from which you got the activity rate/throughput.

Source of emission factor—Source of data from which you got the emission factor.

Source of fuel heat content data—Source of data from which you got the fuel heat content.

SIC/NAICS—Standard Industrial Classification code. NAICS (North American Industry Classification System) codes will replace SIC codes. U.S. Department of Commerce's code for businesses by products or services.

Site name—The name of the facility.

Spring throughput (%)—Part of throughput or activity for the three spring months (March, April, May). See the definition of Fall Throughput.

Stack diameter—A stack's inner physical diameter.

Stack height—A stack's physical height above the surrounding terrain.

Start time (hour)—Start time (if available) that you used to calculate the emissions estimates.

State/providence/territory (FIPS)—Federal Information Placement System (FIPS). FIPS is the system of unique numeric codes the government developed to identify States, counties, towns, and townships for the entire United States, Puerto Rico, and Guam.

Sulfur content—Sulfur content of a fuel, usually expressed as a percentage.

Summer throughput (%)—Part of throughput or activity for the three summer months (June, July, August). See the definition of Fall Throughput.

Summer/winter work weekday emissions—Average day's emissions for a typical day. Ozone daily emissions = summer work weekday; CO and PM daily emissions = winter work weekday.

Total capture/control efficiency—The emission reduction efficiency of a primary control device, which shows the amount controls or material changes reduce a particular pollutant from a process' emissions. Control efficiency is usually expressed as a percentage or in tenths.

Type A source—Very large point sources defined by emission thresholds listed in Table 1.

Type B source—Smaller point sources defined by emission thresholds listed in Table 1.

VMT by Roadway Class—Vehicle miles traveled (VMT) expresses vehicle activity and is used with emission factors. The emission factors are usually expressed in terms of grams per mile of travel. Because VMT doesn't correlate directly to emissions that occur while the vehicle isn't moving, these non-moving emissions are incorporated into the emission factors in EPA's Mobile Model.

Winter throughput (%)—Part of throughput or activity for the three winter months (December, January, February). See the definition of Fall Throughput.

Wk/yr in operation—Weeks per year that the emitting process operates.

Work weekday—Any day of the week except Saturday or Sunday.

X stack coordinate (latitude)—An object's east-west geographical coordinate. Y stack coordinate (longitude)—An object's north-south geographical coordinate.

Appendix B [Reserved]

Subpart Q—[Amended]

3. Section 51.322 is revised to read as follows:

§ 51.322 Sources subject to emissions reporting.

The requirements for reporting emissions data under the plan are in § 51.1 of this part.

4. Section 51.323 is revised to read as follows:

§ 51.323 Reportable emissions data and information.

The requirements for reportable emissions data and information under the plan are in subpart A of this part 51.

[FR Doc. 00-12787 Filed 5-22-00; 8:45 am]

BILLING CODE 6560-50-P